DEPARTMENT OF TRANSPORTATION

Federal Highway Administration

[4910-22-P]

Notice of Intent for an FHWA EIS Project; Environmental Impact Statement: Cherokee County, Texas

AGENCY: Texas Department of Transportation (TxDOT), Federal Highway Administration (FHWA), Department of Transportation.

ACTION: Federal notice of intent to prepare an Environmental Impact Statement (EIS).

SUMMARY: Pursuant to the publishing authority, FHWA, on behalf of TxDOT, is issuing this notice to advise the public that an EIS will be prepared for a proposed transportation project to construct a US 69 relief route around the City of Jacksonville in Cherokee County, Texas.

FOR FURTHER INFORMATION CONTACT: Carson Hollis, P.E., Advanced Project Development, TxDOT Tyler District, 2709 West Front Street, Tyler, Texas, 75702, telephone: 903-510-9157, email: Carson.Hollis@txdot.gov. TxDOT's normal business hours are 8:00 a.m.-5:00 p.m. (central time), Monday through Friday.

SUPPLEMENTARY INFORMATION: The environmental review, consultation, and other NOIactions required by applicable Federal environmental laws for this project are being, or have been, carried-out by TxDOT pursuant to 23 U.S.C. 327 and a Memorandum of Understanding dated December 16, 2014, and executed by FHWA and TxDOT.

TxDOT will prepare an EIS for a proposed US 69 Relief Route around the west side of the city of Jacksonville, TX. There is no existing facility; therefore, the project is proposed on new location. The proposed project is anticipated to be between 10-13 miles long depending on the alignment selected, beginning at existing US 69 just south of Loop 456 and terminating at existing US 69 north of Jacksonville.

The EIS will evaluate a range of build alternatives and a no-build alterative. Possible build alternatives include up to four alignments currently under development based on the 1000-foot recommended corridors identified in the 2018 US 69 Jacksonville Relief Route Study Feasibility Study. These alternatives generally consider alignments along the center, west, and east limits of the corridor with variations at interchanges, but may extend outside the corridor for a portion of the alignment to avoid key environmental features. The northernmost corridor connects with existing US 69 approximately 1.3 miles north of CR 3908, travels on the west side of Jacksonville, and reconnects with existing US 69 at the existing TX 456 Loop. The southernmost corridor connects with existing US 69 at CR 3908 and joins the previously described corridor north of US 175.

TxDOT will issue a single Final Environmental Impact Statement and Record of Decision document pursuant to 23 U.S.C. 139(n)(2), unless TxDOT determines statutory criteria or practicability considerations preclude issuance of a combined document. In accordance with 23 U.S.C. 139, cooperating agencies, participating agencies, and the public will be given an opportunity for continued input on project development. A public scoping meeting is planned for November 2019 in Jacksonville, TX. An agency scoping meeting will also be held with participating and cooperating agencies. The agency and public scoping meetings will provide an opportunity for the participating/cooperating agencies and public to review and comment on the draft coordination plan and schedule, the project purpose and need, the range of alternatives, and methodologies and level of detail for analyzing alternatives. In addition to the agency and public scoping meetings, a public hearing will be held. Public notice will be given of the time and place of the meetings and hearing.

(Catalog of Federal Domestic Assistance Program Number 20.205, Highway Planning and Construction.)

Issued on: September 9, 2019.
Michael T. Leary,
Director, Planning and Program Development, Federal Highway Administration.

[FR Doc. 2019-19947 Filed 9-20-19; 8:45 am]

BILLING CODE 4910-RY-P